DEPARTMENT OF ENERGY

Federal Energy Regulatory Commission

[Docket No. AD19-6-000]

Notice of Availability of the Final Guidance for Horizontal Directional Drill Monitoring, Inadvertent Return Response, and Contingency Plans

The staff of the Federal Energy Regulatory Commission's (FERC or Commission) Office of Energy Projects has finalized its Guidance for Horizontal Directional Drill Monitoring, Inadvertent Return Response, and Contingency Plans (HDD Guidance), which was issued in draft form on October 26, 2018 for comment. The draft HDD Guidance has been revised to address substantive comments received.

The HDD Guidance can be found in Docket Number AD19-6-000. The HDD Guidance can also be viewed on the Commission's website at http://www.ferc.gov/industries/gas/enviro/guidelines.asp.

The HDD Guidance is intended to assist the industry with preparation of their project HDD plans for FERC staff review. This guidance does not substitute for, amend, or supersede the Commission's regulations under the Natural Gas Act of 1938 or the Commission's and Council on Environmental Quality's regulations under the National Environmental Policy Act. It imposes no new legal obligations and grants no additional rights.

In response to the draft HDD Guidance, Commission staff received comments from 15 entities including natural gas pipeline companies, engineering consulting firms, trade organizations, environmental interest groups, and state environmental departments. Staff reviewed and considered each comment and modified several portions of the document in response. Staff declined to modify the document where comments either were too location-specific, were already adequately/accurately addressed as written, or regarded topics that were not relevant to the HDD Guidance.

All of the information related to the HDD Guidance and submitted comments can be found on the FERC website (www.ferc.gov) using the eLibrary link. Click on the eLibrary link, click on Docket Search and in the Docket Number field enter the docket number excluding the last three digits (AD19-6). For assistance, please contact FERC Online Support at FercOnlineSupport@ferc.gov or toll free at (866) 208-3676, or for TTY, contact (202) 502-8659. The eLibrary link also provides access to formal documents issued by the Commission, such as orders, notices, and rulemakings.

Dated: October 9, 2019.
Nathaniel J. Davis, Sr.,
Deputy Secretary.

[FR Doc. 2019-22523 Filed 10-15-19; 8:45 am]

BILLING CODE 6717-01-P